DEPARTMENT OF ENERGY

Federal Energy Regulatory Commission

[Docket No. EG01-20-000, et al.]

Goldendale Energy, Inc., et al.; Electric Rate and Corporate Regulation Filings

November 6, 2000.

Take notice that the following filings have been made with the Commission:

1. Goldendale Energy, Inc.

[Docket No. EG01-20-000]

Take notice that on November 1, 2000, Goldendale Energy, Inc. (Applicant), 335 Parkplace, Suite 110, Kirkland, WA 98033, filed with the Federal Energy Regulatory Commission an application for determination of exempt wholesale generator status pursuant to Part 365 of the Commission's regulations.

Applicant will own an approximately 248 MW electric generating facility located in Goldendale, Washington and interconnection facilities necessary to effect sales at wholesale (the Facility). The Facility's electricity will be sold exclusively at wholesale.

Comment date: November 27, 2000, in accordance with Standard Paragraph E at the end of this notice. The Commission will limit its consideration of comments to those that concern the adequacy or accuracy of the application.

2. Sithe Fore River Development LLC

[Docket No. EG01-21-000]

Take notice that on November 1, 2000, Sithe Fore River Development LLC (Sithe Fore River Development) filed with the Commission an application for determination of exempt wholesale generator (EWG) status pursuant to part 365 of the Commission's regulations.

Comment date: November 27, 2000, in accordance with Standard Paragraph E at the end of this notice. The Commission will limit its consideration of comments to those that concern the adequacy or accuracy of the application.

3. Sithe Mystic Development LLC

[Docket No. EG01-22-000]

Take notice that on November 1, 2000, Sithe Mystic Development LLC (Sithe Mystic Development) filed with the Commission an application for determination of exempt wholesale generator (EWG) status pursuant to part 365 of the Commission's regulations.

Comment date: November 27, 2000, in accordance with Standard Paragraph E at the end of this notice. The Commission will limit its consideration of comments to those that concern the adequacy or accuracy of the application.

4. Duke Energy Corporation

[Docket No. ER01-280-000]

Take notice that on October 31, 2000, Duke Energy Corporation (Duke), tendered for filing an Amendment to its Catawba Interconnection Agreement with North Carolina Municipal Power Agency No. 1 in the above-referenced docket.

Duke respectfully requests that this amendment be accepted for filing and made effective January 1, 2001.

Comment date: November 21, 2000, in accordance with Standard Paragraph E at the end of this notice.

5. Duke Energy Corporation

[Docket No. ER01-281-000]

Take notice that on October 31, 2000, Duke Energy Corporation (Duke), tendered for filing an Amendment to its Catawba Interconnection Agreement with Saluda River Electric Cooperative, Inc., in the above-captioned docket.

Duke respectfully requests that this amendment be accepted for filing and made effective December 31, 2000.

Comment date: November 21, 2000, in accordance with Standard Paragraph E at the end of this notice.

6. Duke Energy Corporation

[Docket No. ER01-282-000]

Take notice that on October 31, 2000, Duke Energy Corporation (Duke), tendered for filing an Amendment to its Catawba Interconnection Agreement with North Carolina Electric Membership Corporation in the above-referenced docket.

Duke respectfully requests that this amendment be accepted for filing and made effective January 1, 2001.

Comment date: November 21, 2000, in accordance with Standard Paragraph E at the end of this notice.

7. Duke Electric Transmission

[Docket No. ER01-283-000]

Take notice that on October 31, 2000, Duke Electric Transmission (Duke), tendered for filing a Network Integration Transmission Service Agreement and Network Operating Agreement for transmission service to North Carolina Electric Membership Corporation in the above-referenced docket.

Duke respectfully requests that these agreements be accepted for filing and made effective January 1, 2001.

Comment date: November 21, 2000, in accordance with Standard Paragraph E at the end of this notice.

8. Wolverine Power Supply Cooperative, Inc.

[Docket No. ER01-284-000]

Take notice that on October 31, 2000, Wolverine Power Supply Cooperative, Inc., tendered for filing an executed Wholesale Power Sales Enabling Agreement with Wolverine Power Marketing Cooperative, Inc. under its Market-Based Power Sales Tariff.

Wolverine requests an effective date of January 1, 2001 for the Agreement.

Comment date: November 21, 2000, in accordance with Standard Paragraph E at the end of this notice.

9. Wolverine Power Supply Cooperative, Inc.

[Docket No. ER01-285-000]

Take notice that on October 31, 2000, Wolverine Power Supply Cooperative, Inc. (Wolverine), tendered for filing proposed changes to its Rate Schedule FERC No. 4—Wholesale Service to Member Distribution Cooperatives. The proposed changes amend Rate Schedule FERC No. 4 by (i) amending Rider “DRC”—Debt Restructuring Charge to make the charge applicable to all energy delivered to the systems of Wolverine's member distribution cooperatives, (ii) adding Rider “SB”—Standby Service Rate applicable to member distribution cooperatives who request standby generation from Wolverine, and (iii) amending Rider “OIL” to remove references to distribution cooperatives that no longer exist.

Copies of the filing were served on the public utility's jurisdictional customers and the Public Utility Commission of Michigan.

Comment date: November 21, 2000, in accordance with Standard Paragraph E at the end of this notice.

10. Wolverine Power Supply Cooperative, Inc.

[Docket No. ER01-286-000]

Take notice that on October 31, 2000, Wolverine Power Supply Cooperative, Inc. (Wolverine), tendered for filing an amendment to the Wolverine Open Access Transmission Tariff. The amendment accommodates retail customer choice in Michigan and adds delivery scheduling and balancing service as a new service for generators directly interconnected to the Wolverine transmission system.

Copies of the filing were served on Wolverine's four wholesale power customers and the Michigan Public Service Commission.

Comment date: November 21, 2000, in accordance with Standard Paragraph E at the end of this notice.

11. Duke Electric Transmission

[Docket No. ER01-291-000]

Take notice that on October 31, 2000, Duke Electric Transmission (Duke), tendered for filing a Network Integration Transmission Service Agreement and Network Operating Agreement for transmission service to North Carolina Municipal Power Agency No. 1 in the above-referenced docket.

Duke respectfully requests that these agreements be accepted for filing and made effective January 1, 2001.

Comment date: November 21, 2000, in accordance with Standard Paragraph E at the end of this notice.

12. Duke Electric Transmission

[Docket No. ER01-292-000]

Take notice that on October 31, 2000, Duke Electric Transmission (Duke), tendered for filing a Network Integration Transmission Service Agreement, Network Operating Agreement, and Master Meter Agreement for transmission service to New Horizon Electric Cooperative, Inc. in the above-referenced docket.

Duke respectfully requests that these agreements be accepted for filing and made effective December 31, 2000.

Comment date: November 21, 2000, in accordance with Standard Paragraph E at the end of this notice.

13. Ameren Energy Development Company

[Docket No. ER01-294-000]

Take notice that on October 31, 2000, Ameren Energy Development Company (AED), tendered for filing a request for authorization to engage in the sale of electric energy and capacity at market-based rates, along with a long-term Power Supply Agreement (PSA) for the sale of energy and capacity to Ameren Energy Marketing Company (AEM), an affiliated company that does not serve any captive retail customers. AED also seeks certain blanket approvals and waivers of certain regulations promulgated under the FPA commonly granted to power marketers.

AED seeks an effective date of November 1, 2000, for the authorizations sought therein and for the PSA with AEM.

Comment date: November 21, 2000, in accordance with Standard Paragraph E at the end of this notice.

14. Outback Power Marketing Inc.

[Docket No. ER01-297-000]

Take notice that on October 31, 2000, Outback Power Marketing Inc. (OPMI) petitioned the Commission for acceptance of OPMI Rate Schedule FERC No. 1; the granting of certain blanket approvals, including the authority to sell electricity at market-based rates; and the waiver of certain Commission regulations, OPMI is a power marketing company incorporated in the State of Delaware.

Comment date: November 21, 2000, in accordance with Standard Paragraph E at the end of this notice.

15. State Line Energy, L.L.C.

[Docket No. ER01-295-000]

Take notice that on October 31, 2000, State Line Energy, L.L.C. (State Line), tendered for filing with the Federal Energy Regulatory Commission Amendment No. 2 to Power Purchase Agreement between Commonwealth Edison Company and State Line Energy, L.L.C., for short-term service under State Line's Market Rate Tariff, which was accepted for filing in Docket No. ER96-2869-000.

Comment date: November 21, 2000, in accordance with Standard Paragraph E at the end of this notice.

16. San Diego Gas & Electric Company

[Docket No. ER01-311-000]

Take notice that on October 31, 2000, San Diego Gas & Electric Company (SDG&E), tendered for filing an unexecuted Service Agreement between SDG&E and the City of Escondido (City), for service under SDG&E Open Access Distribution Tariff (OATD). SDG&E states that it tenders the Service Agreement to assure that service under the OATD is available to the city by January 1, 2001, the date on which the existing Power Sale Agreement between SDG&E and the city terminates.

Copies of this filing have been served upon the California Public Utilities Commission and the City.

17. Louisville Gas and Electric Company/Kentucky Utilities Company

[Docket No. ER01-337-000]

Take notice that on November 1, 2000, Louisville Gas and Electric Company (LG&E)/Kentucky Utilities (KU) (Companies), tendered for filing an executed Netting Agreement between the Companies and Rainbow Energy Marketing Corporation.

Comment date: November 22, 2000, in accordance with Standard Paragraph E at the end of this notice.

18. Fulton Cogeneration Associates, L.P.

[Docket No. ER01-324-000]

Take notice that on November 1, 2000, Fulton Cogeneration Associates, L.P. (Fulton), tendered for filing an application for an order which will permit Fulton to make wholesale sales of electric power to eligible customers at market-based rates. Fulton is the owner of a generating plant located in Rensselaer, New York that will be selling its output to Niagara Mohawk Power Corporation and in the wholesale market.

Comment date: November 22, 2000, in accordance with Standard Paragraph E at the end of this notice.

19. Commonwealth Edison Company

[Docket No. ER01-327-000]

Take notice that on November 1, 2000, Commonwealth Edison Company (ComEd), tendered for filing a Short-Term Firm Transmission Service Agreement with GEN~SYS Energy (GSE) under the terms of ComEd's Open Access Transmission Tariff (OATT).

ComEd requests an effective date of October 9, 2000, for the agreement with GSE, and accordingly, seeks waiver of the Commission's notice requirements.

Comment date: November 22, 2000, in accordance with Standard Paragraph E at the end of this notice.

20. Western Resources, Inc.; Kansas Gas and Electric Company

[Docket No. ER01-328-000]

Take notice that on November 1, 2000, Western Resource, Inc. (WR), and its wholly owned subsidiary The Kansas Gas and Electric Company tendered for filing in compliance with Order No. 614 versions of WR' Rate Schedule Federal Power Commission (FPC) No. 6 and KGE's Rate Schedule FPC No. 93. WR and KGE propose that these Order No. 614 compliant versions be designated as WR' 1st Revised Rate Schedule FPC No. 6 and KGE's 1st Revised Rate Schedule FPC No. 93, respectively.

WR and KGE propose an effective date of November 1, 2000.

Copies of this filing have been served upon the Kansas Corporation Commission.

Comment date: November 22, 2000, in accordance with Standard Paragraph E at the end of this notice.

21. American Transmission Company LLC

[Docket No. ER01-325-000]

Take notice that on November 1, 2000, American Transmission Company LLC (ATCLLC), tendered for filing service agreements for Short-Term Firm and Non-Firm Point-to-Point transmission service for the following customers under ATCLLC's Open Access Tariff. ATCLLC requests an effective date of January 1, 2001.

American Electric Power Service Corporation

Cargill-Alliant, LLC

Carolina Power & Light Company

Conectiv Energy Supply, Inc.

The Detroit Edison Company

Northern States Power Company

Powerex Corp.

PPL Energy Plus, LLC

Tennessee Power Company

Utilities Plus

Commonwealth Edison Company

Tenaska Power Services Co.

Cinergy Services, Inc

Edison Mission Marketing & Trading, Inc.

Southern Company Energy Marketing LLC

Comment date: November 22, 2000, in accordance with Standard Paragraph E at the end of this notice.

22. Dayton Power and Light Company

[Docket No. ER01-329-000]

Take notice that on November 1, 2000, Dayton Power and Light Company (Dayton), tendered for filing Service Agreements establishing Dayton Power & Light Company (Energy Services) as customers under the terms of Dayton's Open Access Transmission Tariff.

Dayton requests an effective date of one day subsequent to this filing for the service agreements. Accordingly, Dayton requests waiver of the Commission's notice requirements.

Copies of this filing were served upon The Dayton Power & Light Company (Energy Services) and the Public Utilities Commission of Ohio.

Comment date: November 22, 2000, in accordance with Standard Paragraph E at the end of this notice.

23. New York State Electric & Gas Corporation

[Docket No. ER01-330-000]

Take notice that on November 1, 2000, New York State Electric & Gas Corporation (NYSEG), tendered for filing pursuant to § 35.15 of the Commission's rules, 18 CFR 35.15, a Notice of Cancellation of FERC Rate Schedule Nos. 36 and 84.

NYSEG requests that the Notice of Cancellation be deemed effective as of November 30, 1998. To the extent required to give effect to the Notice of Cancellation, NYSEG requests waiver of the notice requirements pursuant to § 35.15 of the Commission's Rules, 18 CFR 35.15.

NYSEG served copies of the Notice of Cancellation on the New York Power Authority, the customer previously receiving service under FERC Rate Schedule Nos. 36 and 84, and the New York State Public Service Commission.

Comment date: November 22, 2000, in accordance with Standard Paragraph E at the end of this notice.

24. PECO Energy Company

[Docket No. ER01-333-000]

Take notice that on November 1, 2000, PECO Energy Company (PECO), tendered for filing under section 205 of the Federal Power Act, 16 U.S.C. S 792 et seq., a Service Agreement dated October 23, 2000 with Reliant Energy HLP under PECO's FERC Electric Tariff Original Volume No. 1 (Tariff).

PECO requests an effective date of November 1, 2000 for the Agreement.

PECO states that copies of this filing have been supplied to Reliant Energy HL&P and to the Pennsylvania Public Utility Commission.

Comment date: November 22, 2000, in accordance with Standard Paragraph E at the end of this notice.

25. Public Service Company of New Mexico

[Docket No. ER01-331-000]

Take notice that on November 1, 2000, Public Service Company of New Mexico (PNM), tendered for filing, pursuant to the Regulations of the Federal Energy Regulatory Commission (18 CFR 35.15), Notices of Cancellation of several service agreements between PNM and Tri-State Generation and Transmission Association, Inc. (Tri-State).

Pursuant to PNM's filing, the agreements to be canceled include: Service Schedule A to the PNM-Tri-State Master Interconnection Agreement, dated February 28, 1977 (Rate Schedule FERC No. 31, Supplement 4); Service Schedule C to the PNM-Tri-State Master Interconnection Agreement, dated March 1, 1980 (Rate Schedule FERC No. 31, Supplements 18, 18.1, 18.2, 28, and 29); Service Schedule E to the PNM-Tri-State Master Interconnection Agreement, dated April 4, 1979 (Rate Schedule FERC No. 31, Supplements 13, 13.1.1, 13.2, 13.2.1, 13.2.2, 13.2.3, and 13.2.4); Service Schedule F to the PNM-Tri-State Master Interconnection Agreement, dated February 28, 1977 (Rate Schedule FERC No. 31, Supplement 6); Service Schedule G to the PNM-Tri-State Master Interconnection Agreement, dated February 27, 1987 (Rate Schedule FERC No. 31, Supplements 43, 43.1, 43.2, 43.5, 45, and 45.1); Service Schedule H to the PNM-Tri-State Master Interconnection Agreement, dated May 12, 1977 (Rate Schedule FERC No. 31, Supplements 7 and 7.1); the Contract for Transmission Service Agreement Between PNM and Tri-State, dated July 11, 1968 (Rate Schedule FERC No. 12); the Agreement to Wheel Power Between PNM and Tri-State, dated January 2, 1976 (Rate Schedule FERC No. 30, Supplements 1, 2 and 3); and the Norton Switching Station Agreement dated December 13, 1972 (Rate Schedule FERC No. 31, Supplements 44 and 44.1). PNM's filing is available for public inspection at its offices in Albuquerque, New Mexico.

Comment date: November 22, 2000, in accordance with Standard Paragraph E at the end of this notice.

26. Tucson Electric Power Company

[Docket No. ER01-334-000]

Take notice that on November 1, 2000, Tucson Electric Power Company tendered for filing a revised generation dominance study.

Comment date: November 22, 2000, in accordance with Standard Paragraph E at the end of this notice.

27. Allegheny Energy Supply Hunlock Creek, LLC

[Docket No. ER01-332-000]

Take notice that on November 1, 2000, Allegheny Energy Supply Hunlock Creek, LLC (Allegheny Energy LLC), tendered for filing a Market Rate Tariff of general applicability under which it proposes to sell capacity and energy to affiliates and non-affiliates at market-based rates, and to make such sales to franchised public utility affiliates at rates capped by a publicly available regional index price.

Allegheny Energy LLC requests an effective date no later than November 9, 2000.

Copies of the filing have been provided to the Public Utilities Commission of Ohio, the Pennsylvania Public Utility Commission, the Maryland Public Service Commission, the Virginia State Corporation Commission, the West Virginia Public Service Commission, and all parties of record.

Comment date: November 22, 2000, in accordance with Standard Paragraph E at the end of this notice.

28. New England Power Pool

[Docket No. ER01-335-000]

Take notice that on November 1, 2000, the New England Power Pool (NEPOOL), Participants Committee filed for acceptance materials to permit NEPOOL to expand its membership to include PSEG Energy Resources & Trade LLC (ER&T), TXU Energy Trading Company (TXU) and Worcester Trading, Inc. (Worcester).

The Participants Committee requests an effective date of November 1, 2000 for commencement of participation in NEPOOL by ER&T and TXU and an effective date for the commencement of participation in NEPOOL by Worcester as of the date of its license by the State of Maine as a Competitive Electricity Provider.

The Participants Committee states that copies of these materials were sent to the New England state governors and regulatory commissions and the Participants in NEPOOL.

Comment date: November 22, 2000, in accordance with Standard Paragraph E at the end of this notice.

29. PJM Interconnection, L.L.C.

[Docket No. ER01-336-000]

Take notice that on November 1, 2000, Potomac Electric Power Company tendered for filing a revised Attachment H-9 to the PJM Open Access Transmission Tariff, reducing the Other Supporting Facilities Charge for lower voltage deliveries in the Pepco Zone of PJM to Southern Maryland Electric Cooperative, Inc.

Copies of this filing were served upon PJM Interconnection, LLC., Southern Maryland Electric Cooperative, Inc., and the Maryland Public Service Commission.

Comment date: November 22, 2000, in accordance with Standard Paragraph E at the end of this notice.

30. Southern California Edison Company

[Docket No. ER01-314-000]

Take notice, that on November 1, 2000, Southern California Edison Company (SCE), tendered for filing a change in rate for scheduling and dispatching services as embodied in SCE's agreements with the following entities:

Entity | Rate schedule FERC No.
1. Arizona Electric Power Cooperative | 132.
2. Arizona Public Service Company | 348.
3. California Department of Water Resources | 112, 113, 342.
4. Imperial Irrigation District | 268.
5. Metropolitan Water District of Southern California | 292.
6. M-S-R Public Power Agency | 339.
7. Pacific Gas and Electric Company | 256, 318.
8. PacifiCorp | 275.

SCE requests that the revised rate for these services be made effective January 1, 2001.

Copies of this filing were served upon the Public Utilities Commission of the State of California and all interested parties.

Comment date: November 22, 2000, in accordance with Standard Paragraph E at the end of this notice.

31. Alliant Energy Corporate Services, Inc.

[Docket No. ER01-312-000]

Take notice that on November 1, 2000, Alliant Energy Corporate Services, Inc., on behalf of IES Utilities Inc. (IES), Interstate Power Company (IPC) and Wisconsin Power and Light Company (WPL), tendered for filing with the Commission new rates to be charged under its Open Access Transmission Tariff to reflect the transfer of the ownership of certain transmission facilities from WPL and its subsidiary South Beloit Water, Gas and Electric Company to the American Transmission Company, LLC.

Alliant Energy Corporate Services, Inc., has asked that the new rates become effective on January 1, 2001

A copy of this filing has been served upon the Illinois Commerce Commission, the Minnesota Public Utilities Commission, the Iowa Department of Commerce, the Public Service Commission of Wisconsin and Alliant Energy Corporate Services, Inc transmission customers.

32. California Independent System Operator Corporation

[Docket No. ER01-313-000]

Take notice that on November 1, 2000, the California Independent System Operator Corporation (ISO), tendered for filing an unbundled Grid Management Charge. The purpose of the Grid Management Charge is to allow the ISO to recover its administrative and operating costs.

The ISO requests that the unbundled Grid Management Charge be made effective as of January 1, 2001.

The ISO states that this filing has been served on the California Public Utilities Commission, all California ISO Scheduling Coordinators, and all parties on the official service lists maintained by the Secretary for the following dockets related to the Grid Management Charge: ER98-211-000, ER99-473-000, ER99-2730-000, EL99-47-000, and EL99-67-000.

Comment date: November 22, 2000, in accordance with Standard Paragraph E at the end of this notice.

Standard Paragraphs: 1

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-28921 Filed 11-9-00; 8:45 am]

BILLING CODE 6717-01-U